DEPARTMENT OF COMMERCE

National Oceanic and Atmospheric Administration

[RTID 0648-XE838]

Marine Mammals; File No. 23922

AGENCY: National Marine Fisheries Service (NMFS), National Oceanic and Atmospheric Administration (NOAA), Commerce.

ACTION: Notice; issuance of permit amendment.

SUMMARY: Notice is hereby given that the University of California, 35 Medical Center Way, San Francisco, CA 94131, (Responsible Party: Alexander Pollen, Ph.D.) has been issued a minor amendment to Scientific Research Permit No. 23922.

ADDRESSES: The amendment and related documents are available for review upon written request via email to NMFS.Pr1Comments@noaa.gov.

FOR FURTHER INFORMATION CONTACT: Shasta McClenahan, Ph.D., or Jennifer Skidmore, (301) 427-8401.

SUPPLEMENTARY INFORMATION: The requested amendment has been granted under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The original permit (No. 23922), issued on July 27, 2020 (85 FR 48508, August 11, 2020) authorized the receipt, import, and export of cetacean parts to develop cell lines and study development for evolutionary neuroscience and toxicology studies through July 31, 2025. The minor amendment, issued on May 6, 2025, extends the duration of the permit through July 31, 2026, but does not change any other terms or conditions of the permit.

Dated: May 7, 2025.
Kimberly Damon-Randall,
Director, Office of Protected Resources, National Marine Fisheries Service.

[FR Doc. 2025-08284 Filed 5-9-25; 8:45 am]

BILLING CODE 3510-22-P